DEPARTMENT OF COMMERCE

International Trade Administration

Initiation of Antidumping and Countervailing Duty Administrative Reviews and Request for Revocation in Part

Correction

In notice document 05-1731 beginning on page 4818 in the issue of Monday, January 31, 2005, make the following correction:

On page 4819, the table is corrected in part to read as follows:

| Period to be reviewed
Antidumping Duty Proceedings
Argentina: Honey, A-357-812 | 12/01/03-11/30/04
Asociacion de Cooperativas Argentinas
Centauro S.A.
Comexter Robinson S.A.
Compa Inversora Platense S.A.
Compania Apicola Argentina SA
Compania Europea Americana S.A.
ConAgra Argentina S.A.
Coope-Riel Ltda.
Cooperativa DeAgua Potable y Otros
El Mana, S.A.
Establecimiento Don Angel S.r.L.
Food Way, S.A.

[FR Doc. C5-1731 Filed 2-9-05; 8:45 am]

BILLING CODE 1505-01-D

SECURITIES AND EXCHANGE COMMISSION

[Release No. 34-51085; File No. SR-NYSE-2005-10]

Self Regulatory Organizations; Notice of Filing and Immediate Effectiveness of Proposed Rule Change by the New York Stock Exchange, Inc. Relating to Voluntary Supplemental Procedures for Selecting Arbitrators

January 27, 2005.

Correction

In notice document E5-405 beginning on page 5716 in the issue of Thursday, February 3, 2005 make the following correction:

On page 5718, in the second column, in the sixth and seventh lines, “March 10, 2005” should read “February 24, 2005”.

[FR Doc. Z5-405 Filed 2-9-05; 8:45 am]

BILLING CODE 1505-01-D